DEPARTMENT OF ENERGY

Bonneville Power Administration

Melvin R. Sampson Hatchery, Yakima Basin Coho Project

AGENCY: Bonneville Power Administration (BPA), Department of Energy (DOE).

ACTION: Notice of Intent to prepare an Environmental Impact Statement (EIS) and notice of floodplain and wetlands assessment.

SUMMARY: In accordance with the National Environmental Policy Act (NEPA), BPA intends to prepare an EIS to determine whether to fund the Confederated Tribes of the Yakama Nation's proposal to construct and operate a hatchery for coho salmon in the upper Yakima basin.

The Melvin R. Sampson Hatchery would involve construction of a hatchery on 50 acres of land owned by the Yakama Nation in Kittitas County, Washington. Hatchery operations would include collection of adult coho for broodstock at the existing Roza and Sunnyside dams, incubation and rearing of up to 200,000 juvenile coho salmon, and release of smolts into the Yakima and Naches rivers.

Coho were extirpated from the Yakima basin by the early 1980s. The proposal would augment anadromous fish populations available for harvest and aid natural spawning of coho in the Yakima basin.

With this Notice of Intent, BPA is initiating the public scoping process for the EIS. BPA is requesting comments about potential environmental impacts that should be considered as an EIS is prepared.

In accordance with DOE floodplain and wetland regulations, BPA will analyze impacts to floodplain and wetlands as well as measures to avoid or minimize potential effects. The assessment will be included in the EIS.

DATES: Written comments are due to the address below no later than January 4, 2016. Comments may also be made at the scoping meeting to be held on December 9, 2015 at the addresses below.

ADDRESSES: Comments on the proposed scope of the Draft EIS and requests to be placed on the project mailing list may be mailed by letter to Bonneville Power Administration, Public Affairs Office—DKE-7, P.O. Box 3621, Portland, OR 97208-3621, or sent by fax to 503-230-4019. You may also call BPA's toll-free comment hotline at 1-800-622-4519 and leave a message (please include the name of the project), or submit comments online at www.bpa.gov/comment. All comments received will be accessible from the project Web site at www.bpa.gov/goto/MelvinSampsonHatchery.

On Wednesday, December 9, 2015, a scoping meeting will be held from 6:00 p.m. to 8:00 p.m. at the Hal Holmes Community Center, 209 N. Ruby Street, Ellensburg, Washington 98926. At this informal open-house meeting, BPA will provide project information and maps and will make members of the project team available to answer questions and accept verbal and written comments.

FOR FURTHER INFORMATION CONTACT: Dave Goodman, Environmental Protection Specialist, Bonneville Power Administration, KEC-4, P.O. Box 3621, Portland, OR 97208-3621; toll-free telephone 1-800-282-3713; direct telephone 503-230-4764; or email jdgoodman@bpa.gov. Additional information can be found at the project Web site: www.bpa.gov/goto/MelvinSampsonHatchery.

SUPPLEMENTARY INFORMATION: BPA's funding of the Yakama Nation's project would support efforts to protect, mitigate, and enhance fish and wildlife affected by the development and operation of the Federal Columbia River Power System in the mainstem Columbia River and its tributaries under the Pacific Northwest Electric Power Planning and Conservation Act of 1980 (Act) (16 U.S.C. 839b(h)(10)). The Act requires BPA to fund fish and wildlife protection, mitigation, and enhancement actions consistent with the Northwest Power and Conservation Council's (Council) Fish and Wildlife Program and the purposes of the Act. Under this program, the Council makes recommendations to BPA concerning which fish and wildlife projects to fund. This project was recommended to BPA by the Council. In addition to its responsibilities under the Act, on May 2, 2008, BPA, the Bureau of Reclamation, and the U.S. Army Corps of Engineers signed the 2008 Columbia Basin Fish Accords Memorandum of Agreement with the Yakama Nation. The agreement includes funding for this hatchery project, subject to compliance with NEPA and other environmental review requirements. The project is a component of the Yakima-Klickitat Fisheries Project EIS, which was completed in 1996. The proposal is also consistent with the policy direction in BPA's Fish and Wildlife Implementation Plan, which calls for protecting weak stocks while sustaining overall populations of fish for their economic and cultural value, including long-term harvest opportunities.

The hatchery would be located approximately 5 miles northwest of Ellensburg, WA, between Interstate 90 and Highway 10. Construction of the hatchery would include a 28,000-square-foot hatchery and administration building, an adult holding and spawning facility, intake screens and a pump station to provide water from an existing irrigation canal, three new groundwater wells and acquisition of water rights, a new centralized degassing head box for groundwater treatment and supply, a waste treatment pond, and two 2,000-square-foot residences for hatchery staff.

The proposed hatchery would produce up to 200,000 yearling coho smolts. Project operations would include collection of broodstock from the Roza Dam in Kittitas County, Washington and the Sunnyside Dam in Yakima County, Washington. Fish would be acclimated at existing acclimation sites adjacent to release locations and released into the tributaries and mainstem reaches of the upper Yakima and Naches rivers. Fish would be 100 percent coded wire-tagged and different wire tag codes would be used to distinguish release locations.

BPA will be the lead agency for preparation of the EIS. Cooperating agencies for the EIS may be identified as the proposed project proceeds through the NEPA process.

Alternatives Proposed for Consideration: In the EIS, BPA is considering two alternatives: To fund the proposed hatchery and a no action alternative of not funding the proposal. Other viable alternatives brought forth through the scoping process may also be evaluated in the EIS.

Public Participation and Identification of Environmental Issues: The potential environmental issues identified so far for this project include effects of hatchery operations on water quality; the risk of competition between increasing numbers of coho and Endangered Species Act-listed fish such as bull trout; potential effects on soil, aesthetics, water quality, and climate change due to the construction of permanent facilities; and the social, cultural, and economic effects of project construction and operations, as well as harvest.

BPA has established a 30-day scoping period during which affected landowners, concerned citizens, special interest groups, local governments, and any other interested parties are invited to comment on the scope of the proposed EIS. Scoping will help BPA ensure that a full range of issues related to this proposal are addressed in the EIS, and will help to identify significant or potentially significant impacts that may result from the proposed project.

When completed, the Draft EIS will be circulated for review and comment, and BPA will hold at least one public comment meeting for the Draft EIS. BPA will consider and respond in the Final EIS to comments received on the Draft EIS. BPA's subsequent decision will be documented in a Record of Decision.

Maps and further information are available from BPA at the address above.

Issued in Portland, Oregon on November 4, 2015.
Elliot E. Mainzer,
Administrator and Chief Executive Officer.

[FR Doc. 2015-28936 Filed 11-13-15; 8:45 am]

BILLING CODE 6450-01-P